DEPARTMENT OF TRANSPORTATION

Federal Aviation Administration

14 CFR Part 39

[Docket No. FAA-2016-9301; Directorate Identifier 2015-NM-193-AD]

RIN 2120-AA64

Airworthiness Directives; The Boeing Company Airplanes

AGENCY: Federal Aviation Administration (FAA), DOT.

ACTION: Notice of proposed rulemaking (NPRM).

SUMMARY: We propose to supersede Airworthiness Directive (AD) 2008-12-04, which applies to certain Boeing Model 737-600, -700, -700C, -800, and -900 series airplanes. AD 2008-12-04 currently requires various repetitive inspections to detect cracks along the chem-milled steps of the fuselage skin, and to detect missing or loose fasteners in the area of the preventive modification or repairs, replacement of the time-limited repair with the permanent repair if applicable, and applicable corrective actions, if necessary, which would end certain repetitive inspections. Since we issued AD 2008-12-04, an evaluation by the design approval holder (DAH) has indicated that the upper skin panel at the chem-milled step above the lap joint is subject to widespread fatigue damage (WFD) if the modification was installed after 30,000 total flight cycles. This proposed AD would reduce the post-modification inspection compliance times, limit installation of the preventive modification to airplanes with fewer than 30,000 total flight cycles, and add repetitive inspections for modified airplanes. We are proposing this AD to detect and correct cracking of the upper skin panel at the chem-milled step above the lap joint, which could result in reduced structural integrity of the airplane.

DATES: We must receive comments on this proposed AD by January 6, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740; telephone 562-797-1717; Internet https://www.myboeingfleet.com. You may view this referenced service information at the FAA, Transport Airplane Directorate, 1601 Lind Avenue SW., Renton, WA. For information on the availability of this material at the FAA, call 425-227-1221. It is also available on the internet at http://www.regulations.gov by searching for and locating Docket No. FAA-2016-9301.

Examining the AD Docket

You may examine the AD docket on the Internet at http://www.regulations.gov by searching for and locating Docket No. FAA-2016-9301; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Gaetano Settineri, Aerospace Engineer, Airframe Branch, ANM-120S, FAA, Seattle Aircraft Certification Office (ACO), 1601 Lind Avenue SW., Renton, WA 98057-3356; phone: 425-917-6577; fax: 425-917-6590; email: Gaetano.Settineri@faa.gov.

SUPPLEMENTARY INFORMATION:

Comments Invited

We invite you to send any written relevant data, views, or arguments about this proposed AD. Send your comments to an address listed under the ADDRESSES section. Include “Docket No. FAA-2016-9301; Directorate Identifier 2015-NM-193-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

Fatigue damage can occur locally, in small areas or structural design details, or in widespread areas. Multiple-site damage is widespread damage that occurs in a large structural element such as a single rivet line of a lap splice joining two large skin panels. Widespread damage can also occur in multiple elements such as adjacent frames or stringers. Multiple-site damage and multiple-element damage cracks are typically too small initially to be reliably detected with normal inspection methods. Without intervention, these cracks will grow, and eventually compromise the structural integrity of the airplane. This condition is known as widespread fatigue damage. It is associated with general degradation of large areas of structure with similar structural details and stress levels. As an airplane ages, WFD will likely occur, and will certainly occur if the airplane is operated long enough without any intervention.

The FAA's WFD final rule (75 FR 69746, November 15, 2010) became effective on January 14, 2011. The WFD rule requires certain actions to prevent structural failure due to WFD throughout the operational life of certain existing transport category airplanes and all of these airplanes that will be certificated in the future. For existing and future airplanes subject to the WFD rule, the rule requires that DAHs establish a limit of validity (LOV) of the engineering data that support the structural maintenance program. Operators affected by the WFD rule may not fly an airplane beyond its LOV, unless an extended LOV is approved.

The WFD rule (75 FR 69746, November 15, 2010) does not require identifying and developing maintenance actions if the DAHs can show that such actions are not necessary to prevent WFD before the airplane reaches the LOV. Many LOVs, however, do depend on accomplishment of future maintenance actions. As stated in the WFD rule, any maintenance actions necessary to reach the LOV will be mandated by airworthiness directives through separate rulemaking actions.

In the context of WFD, this action is necessary to enable DAHs to propose LOVs that allow operators the longest operational lives for their airplanes, and still ensure that WFD will not occur. This approach allows for an implementation strategy that provides flexibility to DAHs in determining the timing of service information development (with FAA approval), while providing operators with certainty regarding the LOV applicable to their airplanes.

On May 29, 2008, we issued AD 2008-12-04, Amendment 39-15547 (73 FR 32991, June 11, 2008) (“AD 2008-12-04”), for certain Boeing Model 737-600, -700, -700C, -800, and -900 series airplanes. AD 2008-12-04 requires various repetitive inspections to detect cracks along the chem-milled steps of the fuselage skin, and to detect missing or loose fasteners in the area of the preventive modification or repairs, replacement of the time-limited repair with the permanent repair if applicable, and applicable corrective actions, if necessary, which would end certain repetitive inspections. AD 2008-12-04 resulted from a fatigue test that revealed numerous cracks in the upper skin panel at the chem-milled step above the lap joint. We issued AD 2008-12-04 to detect and correct such fatigue-related cracks, which could result in the crack tips continuing to turn and grow to the point where the skin bay flaps open, causing decompression of the airplane.

Actions Since AD 2008-12-04 Was Issued

Since we issued AD 2008-12-04, an evaluation by the DAH indicated that the upper skin panel at the chem-milled step above the lap joint is subject to WFD if the modification was installed after that airplane had accumulated 30,000 total flight cycles. We have determined that it is necessary to reduce the post-modification inspection compliance times, limit installation of the preventive modification to airplanes that have accumulated fewer than 30,000 total flight cycles, and add repetitive inspections for modified airplanes.

Related Service Information Under 1 CFR Part 51

We reviewed Boeing Alert Service Bulletin 737-53A1232, Revision 3, dated July 27, 2015. This service information describes procedures for an external detailed inspection and an external nondestructive inspection (NDI) for cracks in the fuselage skin at chem-milled steps. Corrective actions include a permanent or time-limited repair, a preventive modification, and replacement of loose and missing fasteners. Related investigative actions include internal and external detailed inspections of the repair area. This service information is reasonably available because the interested parties have access to it through their normal course of business or by the means identified in the ADDRESSES section.

FAA's Determination

We are proposing this AD because we evaluated all the relevant information and determined the unsafe condition described previously is likely to exist or develop in other products of the same type design.

Proposed AD Requirements

Although this proposed AD does not explicitly restate the requirements of AD 2008-12-04, this proposed AD would retain all requirements of AD 2008-12-04. Those requirements are referenced in the service information identified previously, which, in turn, is referenced in paragraphs (g), (h), and (i) of this proposed AD. This proposed AD would require accomplishing the actions specified in the service information described previously, except as discussed under “Difference Between this AD and the Service Information.” This proposed AD would reduce the post-modification compliance times required by AD 2008-12-04, limit installation of the preventive modification to airplanes that have not yet accumulated 30,000 total flight cycles, and add repetitive post-modification inspections and applicable corrective actions.

The phrase “related investigative actions” is used in this proposed AD. Related investigative actions are follow-on actions that (1) are related to the primary action, and (2) further investigate the nature of any condition found. Related investigative actions in an AD could include, for example, inspections.

The phrase “corrective actions” is used in this proposed AD. Corrective actions are actions that correct or address any condition found. Corrective actions in an AD could include, for example, repairs.

Difference Between This Proposed AD and the Service Information

Boeing Alert Service Bulletin 737-53A1232, Revision 3, dated July 27, 2015, specifies to contact the manufacturer for certain instructions, but this proposed AD would require accomplishment of repair methods, modification deviations, and alteration deviations in one of the following ways:

• In accordance with a method that we approve; or

• Using data that meet the certification basis of the airplane, and that have been approved by the Boeing Commercial Airplanes Organization Designation Authorization (ODA) whom we have authorized to make those findings.

Costs of Compliance

We estimate that this proposed AD affects 376 airplanes of U.S. registry.

We estimate the following costs to comply with this proposed AD:

Estimated Costs
Action | Labor cost | Parts cost | Cost per product | Cost on U.S. operators
Inspections | Up to 25 work-hours × $85 per hour = $2,125 per inspection cycle | $0 | Up to $2,125 per inspection cycle | Up to $799,000 per inspection cycle

We estimate the following costs to do any necessary repairs and replacements that would be required based on the results of the proposed inspections. We have no way of determining the number of aircraft that might need these replacements:

On-Condition Costs
Action | Labor cost | Parts cost | Cost per product
Fastener replacement | Up to 1 work-hour × $85 per hour = $85 | Minimal | $85

We have received no definitive data that would enable us to provide cost estimates for the related investigative actions, certain repairs, and other applicable actions specified in this proposed AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-12-04, Amendment 39-15547 (73 FR 32991, June 11, 2008), and adding the following new AD:

The Boeing Company: Docket No. FAA-2016-9301; Directorate Identifier 2015-NM-193-AD.

(a) Comments Due Date

The FAA must receive comments on this AD action by January 6, 2017.

(b) Affected ADs

This AD replaces AD 2008-12-04, Amendment 39-15547 (73 FR 32991, June 11, 2008) (“AD 2008-12-04”).

(c) Applicability

This AD applies to The Boeing Company Model 737-600, -700, -700C, -800, and -900 series airplanes, certificated in any category, as identified in Boeing Alert Service Bulletin 737-53A1232, Revision 3, dated July 27, 2015.

(d) Subject

Air Transport Association (ATA) of America Code 53, Fuselage.

(e) Unsafe Condition

This AD was prompted by an evaluation by the design approval holder (DAH) that indicated that the upper skin panel at the chem-milled step above the lap joint is subject to widespread fatigue damage (WFD) if the modification was installed after 30,000 total flight cycles. We are issuing this AD to detect and correct cracking of the upper skin panel at the chem-milled step above the lap joint, which could result in reduced structural integrity of the airplane.

(f) Compliance

Comply with this AD within the compliance times specified, unless already done.

(g) Inspections at Locations Without the Preventive Modification, Time-limited Repair, or Permanent Repair Installed

At locations where a preventive modification, time-limited repair, or permanent repair has not been installed as specified in Boeing Service Bulletin 737-53A1232: At the applicable time specified in paragraph 1.E., “Compliance,” of Boeing Alert Service Bulletin 737-53A1232, Revision 3, dated July 27, 2015, do an external detailed inspection and an inspection specified in either paragraph (g)(1) or (g)(2) of this AD, for any crack in the fuselage skin at the chem-milled steps at specified locations, in accordance with Accomplishment Instructions of Boeing Alert Service Bulletin 737-53A1232, Revision 3, dated July 27, 2015. Do all applicable related investigative and corrective actions before further flight in accordance with the Accomplishment Instructions of Boeing Alert Service Bulletin 737-53A1232, Revision 3, dated July 27, 2015, except as required by paragraph (l)(1) of this AD. Repeat the inspections thereafter at the applicable time specified in paragraph 1.E., “Compliance,” of Boeing Alert Service Bulletin 737-53A1232, Revision 3, dated July 27, 2015.

(1) Do an external medium frequency eddy current (MFEC), or magneto optic imager (MOI), or C-Scan inspection.

(2) Do an external ultrasonic phased array (UTPA) inspection.

(h) Repetitive Post-Modification Inspections and Repair at Any Location With the Preventive Modification but No Time-Limited or Permanent Repair

At any location with a preventive modification installed as specified in Boeing Alert Service Bulletin 737-53A1232: At the applicable time specified in paragraph 1.E., “Compliance,” of Boeing Alert Service Bulletin 737-53A1232, Revision 3, dated July 27, 2015, except as required by paragraph (l)(2) of this AD, do the actions specified in paragraphs (h)(1) and (h)(2) of this AD.

(1) Do external detailed and external high frequency and medium frequency eddy current inspections for any crack, in accordance with Part 7 of the Accomplishment Instructions of Boeing Alert Service Bulletin 737-53A1232, Revision 3, dated July 27, 2015. If no crack is found during the inspection, repeat the inspections thereafter at the applicable time specified in paragraph 1.E., “Compliance,” of Boeing Alert Service Bulletin 737-53A1232, Revision 3, dated July 27, 2015. If any crack is found during any inspection required by this paragraph, repair before further flight, in accordance with the Accomplishment Instructions of Boeing Alert Service Bulletin 737-53A1232, Revision 3, dated July 27, 2015, except as required by paragraph (l)(1) of this AD.

(2) Do a detailed inspection for any crack and any loose or missing fasteners, in accordance with Part 7 of the Accomplishment Instructions of Boeing Alert Service Bulletin 737-53A1232, Revision 3, dated July 27, 2015. Repeat the inspections thereafter at applicable time specified in paragraph 1.E, “Compliance,” of Boeing Alert Service Bulletin 737-53A1232, Revision 3, dated July 27, 2015. If a crack is found during the inspection, or any loose or missing fastener is found, before further flight, do all applicable corrective actions, in accordance with Part V of the Accomplishment Instructions of Boeing Alert Service Bulletin 737-53A1232, Revision 3, dated July 27, 2015, except as specified in paragraph (l)(1) of this AD.

(i) Additional Actions for Modified Airplanes

(1) Except for preventive modifications installed on airplanes listed in Appendix A of Boeing Alert Service Bulletin 737-53A1232 at the specified total flight cycles, at any location where a preventive modification as specified in Boeing Alert Service Bulletin 737-53A1232 was installed after the accumulation of 30,000 total flight cycles: At the applicable time specified in paragraph 1.E., “Compliance,” of Boeing Alert Service Bulletin 737-53A1232, Revision 3, dated July 27, 2015, except as required by paragraph (l)(2) of this AD, do all applicable investigative and corrective actions using a method approved in accordance with the procedures specified in paragraph (p) of this AD.

(2) For airplanes which have installed supplemental type certificate (STC) ST01697SE (http://rgl.faa.gov/Regulatory_and_Guidance_Library/rgstc.nsf/0/0812969a86af879b8625766400600105/$FILE/ST01697SE.pdf) and the preventative modification has been installed after 15,000 total flight cycles: Before the accumulation of 25,000 total flight cycles, do all applicable investigative and corrective actions using a method approved in accordance with the procedures specified in paragraph (p) of this AD.

(j) Inspections and Repair at Locations With the Permanent Chem-Milled Step Repair Installed

At any location where a permanent repair has been installed as specified in Boeing Service Bulletin 737-53A1232: At the applicable time specified in paragraph 1.E., “Compliance,” of Boeing Alert Service Bulletin 737-53A1232, Revision 3, dated July 27, 2015: Do the inspections specified in paragraph (j)(1) or (j)(2) of this AD, in accordance with Accomplishment Instructions of Boeing Alert Service Bulletin 737-53A1232, Revision 3, dated July 27, 2015. Repeat the inspections thereafter at the applicable time specified in paragraph 1.E., “Compliance,” of Boeing Alert Service Bulletin 737-53A1232, Revision 3, dated July 27, 2015. Do all applicable related investigative and corrective actions before further flight in accordance with Boeing Alert Service Bulletin 737-53A1232, Revision 3, dated July 27, 2015, except as required by paragraph (l)(1) of this AD.

(1) Do an external low frequency eddy current (LFEC) inspection for any crack, and doubler external LFEC and external detailed inspections for any crack and loose or missing fasteners.

(2) Do an external LFEC inspection for any crack, and doubler external LFEC and external detailed inspections for any crack and loose or missing fasteners; and an internal MFEC for any crack.

(k) Inspection and Replacement at Locations With a Chem-Milled Time-Limited Repair Installed

At any location where a chem-milled time-limited repair is installed, do the actions specified in paragraphs (k)(1) and (k)(2) of this AD, at the applicable time specified in 1.E. “Compliance,” of Boeing Alert Service Bulletin 737-53A1232, Revision 3, dated July 27, 2015.

(1) Do internal and external detailed inspections of the time-limited repair for any crack, or loose or missing fasteners, in accordance with Part IV of the Accomplishment Instructions of Boeing Alert Service Bulletin 737-53A1232, Revision 3, dated July 27, 2015. Repeat the inspections thereafter at the applicable time specified in paragraph 1.E., “Compliance,” of Boeing Alert Service Bulletin 737-53A1232, Revision 3, dated July 27, 2015. If any crack is found during the inspection, or if any loose or missing fastener is found, before further flight, do all applicable corrective actions, in accordance with Part IV of the Accomplishment Instructions of Boeing Alert Service Bulletin 737-53A1232, Revision 3, dated July 27, 2015, except as specified in paragraph (l)(1) of this AD.

(2) Replace the time-limited repair with the permanent repair, in accordance with Part IV of the Accomplishment Instructions of Boeing Alert Service Bulletin 737-53A1232, Revision 3, dated July 27, 2015.

(l) Exceptions to Service Information Specifications

(1) Where Boeing Alert Service Bulletin 737-53A1232, Revision 3, dated July 27, 2015, specifies to contact Boeing for repair instructions, this AD requires repair before further flight using a method approved in accordance with the procedures specified in paragraph (p) of this AD.

(2) Where paragraph 1.E., “Compliance,” of Boeing Alert Service Bulletin 737-53A1232, Revision 3, dated July 27, 2015, specifies a compliance time “after the date of Revision 2 of this service bulletin,” this AD requires compliance within the specified compliance time after the effective date of this AD.

(m) Optional Terminating Action

(1) For airplanes that have accumulated 30,000 total flight cycles or fewer, or for airplanes on which supplemental type certificate (STC) ST0l697SE (http://rgl.faa.gov/Regulatory_and_Guidance_Library/rgstc.nsf/0/0812969a86af879b8625766400600105/$FILE/ST01697SE.pdf) was installed and have accumulated 15,000 total flight cycles or fewer, accomplishment of the preventive modification specified in Part V of Boeing Alert Service Bulletin 737-53A1232, Revision 3, dated July 27, 2015, terminates the inspections required by paragraph (g) of this AD in the modified areas only.

(2) Installation of a permanent repair as specified in Part III of Boeing Alert Service Bulletin 737-53A1232, Revision 3, dated July 27, 2015, or a time-limited repair as specified in Part IV of Boeing Alert Service Bulletin 737-53A1232, Revision 3, dated July 27, 2015, terminates the inspections required by paragraph (g) of this AD in the repaired areas only.

(n) Installation Limitations of Preventive Modification

As of the effective date of this AD, installation of the preventive modification specified in Boeing Alert Service Bulletin 737-53A1232, is prohibited on the airplanes identified in paragraphs (n)(1) and (n)(2) of this AD.

(1) Airplanes that have accumulated more than 30,000 total flight cycles.

(2) Airplanes which have installed STC ST01697SE and that have accumulated more than 15,000 total flight cycles.

(o) Credit for Previous Actions

This paragraph provides credit for the corresponding actions specified in paragraphs (g), (h), (i), (j), (k), and (m) of this AD, if those actions were performed before the effective date of this AD using the service information identified in paragraph (o)(1), (o)(2), or (o)(3) of this AD.

(1) Boeing Special Attention Service Bulletin 737-53A1232, dated April 2, 2007, which was incorporated by reference in AD 2008-12-04.

(2) Boeing Special Attention Service Bulletin 737-53A1232, Revision 1, dated May 18, 2012, which is not incorporated by reference in this AD.

(3) Boeing Special Attention Service Bulletin 737-53A1232, Revision 2, dated July 26, 2013, which is not incorporated by reference in this AD.

(p) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (q)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO, to make those findings. To be approved, the repair method, modification deviation, or alteration deviation must meet the certification basis of the airplane, and the approval must specifically refer to this AD.

(4) AMOCs approved previously for repairs or preventive modifications for AD 2008-12-04 are approved as AMOCs for the installation of the repair or preventive modification specified in this AD, provided all post-repair or post-modification inspections are done at the applicable times specified in the AMOC, or in tables 1a, 1b, 2, and 3 of paragraph 1.E., “Compliance,” of Boeing Alert Service Bulletin 737-53A1232, Revision 3, dated July 27, 2015, whichever occurs first.

(q) Related Information

(1) For more information about this AD, contact Gaetano Settineri, Aerospace Engineer, Airframe Branch, ANM-120S, FAA, Seattle ACO, 1601 Lind Avenue SW., Renton, WA 98057-3356; phone: 425-917-6577; fax: 425-917-6590; email: Gaetano.Settineri@faa.gov.

(2) For service information identified in this AD, contact Boeing Commercial Airplanes, Attention: Contractual & Data Services (C&DS), 2600 Westminster Blvd., MC 110-SK57, Seal Beach, CA 90740; telephone 562-797-1717; Internet https://www.myboeingfleet.com. You may view this referenced service information at the FAA, Transport Airplane Directorate, 1601 Lind Avenue SW., Renton, WA. For information on the availability of this material at the FAA, call 425-227-1221.

Issued in Renton, Washington, on October 25, 2016.
Dionne Palermo,
Acting Manager, Transport Airplane Directorate, Aircraft Certification Service.

[FR Doc. 2016-26164 Filed 11-21-16; 8:45 am]

BILLING CODE 4910-13-P